Proclamation 7904 of May 19, 2005

National Maritime Day, 2005

By the President of the United States of America

A Proclamation

America's merchant mariners make our Nation more secure and our economy stronger. Throughout our history, they have promoted commerce and protected our freedom. On National Maritime Day, we honor the dedicated service of the United States Merchant Marine.

Each year, the men and women of the U.S. maritime transportation system move more than 2 billion tons of cargo along our waterways and across the open seas. Many of the raw materials Americans purchase are transported by merchant vessels, and merchant mariners ship agricultural products and finished goods in and out of the United States every day.

Merchant mariners have also served in every conflict in our Nation's history. The U.S. Merchant Marine helps provide our Nation's Armed Forces with crucial supplies and equipment. These brave men and women demonstrate courage, love of country, and devotion to duty, and we especially honor those who have made the ultimate sacrifice in defense of our Nation. The United States is safer and the world is more peaceful because of the work of our merchant mariners, and we are grateful for their service.

In recognition of the importance of the U.S. Merchant Marine, the Congress, by joint resolution approved on May 20, 1933, as amended, has designated May 22 of each year as “National Maritime Day,” and has authorized and requested that the President issue an annual proclamation calling for its appropriate observance.

NOW, THEREFORE, I, GEORGE W. BUSH, President of the United States of America, do hereby proclaim May 22, 2005, as National Maritime Day. I call upon the people of the United States to celebrate this observance and to display the flag of the United States at their homes and in their communities. I also request that all ships sailing under the American flag dress ship on that day.

IN WITNESS WHEREOF, I have hereunto set my hand this nineteenth day of May, in the year of our Lord two thousand five, and of the Independence of the United States of America the two hundred and twenty-ninth.

B

[FR Doc. 05-10407

Filed 5-20-05; 11:04 am]

Billing code 3195-01-P